DEPARTMENT OF ENERGY

Federal Energy Regulatory Commission

Combined Notice of Filings #1

Take notice that the Commission received the following electric corporate filings:

Docket Numbers: EC24-86-000.

Applicants: Clyde Onsite Generation, LLC, Martinsville OnSite Generation, LLC, South River OnSite Generation, LLC.

Description: Joint application for authorization under Section 203 of the Federal Power Act of Clyde OnSite Generation, LLC, et al.

Filed Date: 6/10/24.

Accession Number: 20240610-5176.

Comment Date: 5 p.m. ET 7/1/24.

Take notice that the Commission received the following exempt wholesale generator filings:

Docket Numbers: EG24-202-000.

Applicants: SEPV Sierra, LLC.

Description: SEPV Sierra, LLC submits notice of self-certification of exempt wholesale generator status.

Filed Date: 6/10/24.

Accession Number: 20240610-5139.

Comment Date: 5 p.m. ET 7/1/24.

Docket Numbers: EG24-203-000.

Applicants: SEPV Cuyama, LLC.

Description: SEPV Cuyama, LLC submits notice of self-certification of exempt wholesale generator status.

Filed Date: 6/10/24.

Accession Number: 20240610-5142.

Comment Date: 5 p.m. ET 7/1/24.

Docket Numbers: EG24-204-000.

Applicants: CED Westside Canal Battery Storage, LLC.

Description: CED Westside Canal Battery Storage, LLC submits notice of self-certification of exempt wholesale generator status.

Filed Date: 6/10/24.

Accession Number: 20240610-5170.

Comment Date: 5 p.m. ET 7/1/24.

Take notice that the Commission received the following electric rate filings:

Docket Numbers: ER10-2475-028; ER10-2474-027; ER10-3246-021; ER13-1266-039; ER15-2211-037.

Applicants: MidAmerican Energy Services, LLC, CalEnergy, LLC, PacifiCorp, Sierra Pacific Power Company, Nevada Power Company.

Description: Supplement to 06/29/2022 Triennial Market Power Analysis for Northwest Region of Nevada Power Company, et al.

Filed Date: 6/10/24

Accession Number: 20240610-5179.

Comment Date: 5 p.m. ET 7/1/24.

Docket Numbers: ER10-2475-025.

Applicants: MidAmerican Energy Services, LLC, CalEnergy, LLC, PacifiCorp, Sierra Pacific Power Company, Nevada Power Company.

Description: Supplement to 12/23/2021, Triennial Market Power Analysis for Southwest Region of Nevada Power Company.

Filed Date: 6/10/24.

Accession Number: 20240610-5180.

Comment Date: 5 p.m. ET 7/1/24.

Docket Numbers: ER22-2963-002.

Applicants: Yellowbud Solar, LLC.

Description: Yellowbud Solar, LLC submits response to FERC`s 05/10/2024 Deficiency Letter re the triennial market power update.

Filed Date: 6/10/24.

Accession Number: 20240610-5178.

Comment Date: 5 p.m. ET 7/1/24.

Docket Numbers: ER24-1655-000.

Applicants: New York Independent System Operator, Inc.

Description: Report Filing: NYISO Notice of Effective Date re: Evolving Financial Transaction Capabilities to be effective N/A.

Filed Date: 6/4/24.

Accession Number: 20240604-5161.

Comment Date: 5 p.m. ET 6/20/24.

Docket Numbers: ER24-2219-000.

Applicants: CED Westside Canal Battery Storage, LLC.

Description: Baseline eTariff Filing: Market Based Rate to be effective 8/9/2024.

Filed Date: 6/10/24.

Accession Number: 20240610-5164.

Comment Date: 5 p.m. ET 7/1/24.

Docket Numbers: ER24-2220-000.

Applicants: FL Solar 7, LLC.

Description: Baseline eTariff Filing: FL Solar 7 MBR Application Filing to be effective 6/11/2024.

Filed Date: 6/10/24.

Accession Number: 20240610-5167.

Comment Date: 5 p.m. ET 7/1/24.

Docket Numbers: ER24-2221-000.

Applicants: American Transmission Systems, Incorporated, PJM Interconnection, L.L.C.

Description: § 205(d) Rate Filing: American Transmission Systems, Incorporated submits tariff filing per 35.13(a)(2)(iii: ATSI submits SA No. 7175 filing and Cancellation of SA No. 6334 to be effective 8/12/2024.

Filed Date: 6/11/24.

Accession Number: 20240611-5060.

Comment Date: 5 p.m. ET 7/2/24.

Docket Numbers: ER24-2222-000.

Applicants: Mid-Atlantic Interstate Transmission, LLC, PJM Interconnection, L.L.C.

Description: § 205(d) Rate Filing: Mid-Atlantic Interstate Transmission, LLC submits tariff filing per 35.13(a)(2)(iii: MAIT submits SA No. 7176 Filing and Cancellation of SA No. 6150 to be effective 8/12/2024.

Filed Date: 6/11/24.

Accession Number: 20240611-5061.

Comment Date: 5 p.m. ET 7/2/24.

Docket Numbers: ER24-2223-000.

Applicants: Roundtop Energy LLC.

Description: Tariff Amendment: Cancellation partial FERC NO. 2 to be effective 6/30/2024.

Filed Date: 6/11/24.

Accession Number: 20240611-5079.

Comment Date: 5 p.m. ET 7/2/24.

Docket Numbers: ER24-2224-000.

Applicants: Beaver Dam Energy LLC.

Description: Tariff Amendment: Cancellation partial tariff FERC NO. 2 to be effective 6/30/2024.

Filed Date: 6/11/24.

Accession Number: 20240611-5083.

Comment Date: 5 p.m. ET 7/2/24.

Docket Numbers: ER24-2225-000.

Applicants: Alpaca Energy LLC.

Description: Tariff Amendment: Cancellation partial tariff FERC NO. 2 to be effective 6/30/2024.

Filed Date: 6/11/24.

Accession Number: 20240611-5084.

Comment Date: 5 p.m. ET 7/2/24.

Docket Numbers: ER24-2226-000.

Applicants: Milan Energy LLC.

Description: Tariff Amendment: Cancellation partial tariff FERC NO. 2 to be effective 6/30/2024.

Filed Date: 6/11/24.

Accession Number: 20240611-5088.

Comment Date: 5 p.m. ET 7/2/24.

Docket Numbers: ER24-2227-000.

Applicants: Wolf Run Energy LLC.

Description: Tariff Amendment: Cancellation entire tariff to be effective 6/30/2024.

Filed Date: 6/11/24.

Accession Number: 20240611-5089.

Comment Date: 5 p.m. ET 7/2/24.

Docket Numbers: ER24-2228-000.

Applicants: Oxbow Creek Energy LLC.

Description: Tariff Amendment: Cancellation entire tariff to be effective 6/30/2024.

Filed Date: 6/11/24.

Accession Number: 20240611-5091.

Comment Date: 5 p.m. ET 7/2/24.

Docket Numbers: ER24-2229-000.

Applicants: Southern California Edison Company.

Description: § 205(d) Rate Filing: Amendment to South Georgia Formula Rate Revision to be effective 6/12/2024.

Filed Date: 6/11/24.

Accession Number: 20240611-5094.

Comment Date: 5 p.m. ET 7/2/24.

Docket Numbers: ER24-2230-000.

Applicants: Nevada Power Company.

Description: Compliance filing: Compliance Filing to be effective 5/14/2024.

Filed Date: 6/11/24.

Accession Number: 20240611-5097.

Comment Date: 5 p.m. ET 7/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 11, 2024.
Debbie-Anne A. Reese,
Acting Secretary.

[FR Doc. 2024-13293 Filed 6-14-24; 8:45 am]

BILLING CODE 6717-01-P